DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by August 29, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

PRT-074558

Applicant: Larry B. Higgins, Gaylord, MI

The applicant requests a permit to import the sport-hunted trophy of one male bontebok (Damaliscus pygargus dorcas) culled from a captive herd maintained under the management program of the Republic of South Africa, for the purpose of enhancement of the survival of the species.

PRT-074551

Applicant: Jay W. Furney, Pueblo, CO

The applicant requests a permit to import the sport-hunted trophy of one male bontebok (Damaliscus pygargus dorcas) culled from a captive herd maintained under the management program of the Republic of South Africa, for the purpose of enhancement of the survival of the species.

PRT-074557

Applicant: Scott F. Garrett, Houston, TX

The applicant requests a permit to import the sport-hunted trophy of one male bontebok (Damaliscus pygargus dorcas) culled from a captive herd maintained under the management program of the Republic of South Africa, for the purpose of enhancement of the survival of the species.

PRT-071994

Applicant: Corinne L. Richards, Ann Arbor, MI

The applicant requests a permit to import biological samples of Panamanian golden frogs (Atelopus zeteki and Atelopus varius) for the purpose of enhancement of the species through scientific research. This notification covers activities to be conducted by the applicant over a five year period.

PRT-073403, 073404 and 005821

Applicant: Ferdinand & Anton Fercos Hantig, Las Vegas, Nevada

The applicant requests permits to export leopard (Panthera pardus) to worldwide locations for the purpose of enhancement of the species through conservation education. The permit numbers and animals are: 073403—Sherni, 073404—Picasso, 005821—Ferdinand. This notification covers activities to be conducted by the applicant over a three-year period and the import of any potential progeny born while overseas.

The U.S. Fish and Wildlife Service has information collection approval from OMB through March 31, 2004, OMB Control Number 1018-0093. Federal Agencies may not conduct or sponsor and a person is not required to respond to a collection of information unless it displays a current valid OMB control number.

Dated: July 18, 2003.
Monica Farris,
Senior Permit Biologist, Branch of Permits, Division of Management Authority.

[FR Doc. 03-19415 Filed 7-29-03; 8:45 am]

BILLING CODE 4310-55-P